DEPARTMENT OF THE INTERIOR

National Park Service

[NPS-WASO-NRNHL-1111-8976; [2200-3200-665]

National Register of Historic Places; Notification of Pending Nominations and Related Actions

Nominations for the following properties being considered for listing or related actions in the National Register were received by the National Park Service before November 26, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, (202) 371-6447. Written or faxed comments should be submitted by January 3, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Mobile County

Most Pure Heart of Mary School, The, 310 Sengstak St., Mobile, 11000988

CALIFORNIA

Los Angeles County

Hollywood High School Historic District, 1521 N. Highland Ave., Los Angeles, 11000989

San Diego County

RENOWN (yacht), San Diego Marriot Marina, A Dock, 333 W. Harbor Dr., San Diego, 11000990

MAINE

Knox County

Main Street Historic District (Boundary Increase), 428-497 Main St., Rockland, 11000991

NEW JERSEY

Camden County

Federal Building and Courthouse, 401 Market St., Camden, 11000992

NEW YORK

Albany County

Potter Hollow District No. 19 School, Cty. Rd. 53, Potter Hollow, 11000993

Cattaraugus County

Jefferson Street Cemetery, E. side of Jefferson St. between Martha St. & Aspen Dr., Ellicottville, 11000994

Temple B'Nai Israel, 127 S. Barry St., Olean, 11000995

Chemung County

Eustace, Alexander, House, 401 Maple Ave., Elmira, 11000996

Erie County

Pioneer Cemetery, W. side of N. Main St. between Gold St. & Beach Rd., Evans Center, 11000997

Sommers, John P. House (Lancaster, New York MPS), 33 Lake Ave., Lancaster, 11000998

Greene County

Haxton—Griffin Farm, 84 Howard Hall Rd., Athens, 11000999

Jefferson County

Wood, Amos, House, 7751 Cty. Rd. 120, North Landing, 11001000

Livingston County

Avon Five Arch Bridge, 2078 Avon Geneseo Rd., Avon, 11001001

Nassau County

Christ Building, 357-359 Sea Cliff Ave., Sea Cliff, 11001002

Oneida County

Tabernacle Baptist Church, 8 Hopper St., Utica, 11001003

Richmond County

Boardman—Mitchell House, 710 Bay St., Staten Island, 11001004

Rockland County

Stony Point District School No. 4, Central Dr. at Cedar Flats Rd., Stony Point, 11001005

Schenectady County

Mica Insulator Company, 797 & 845 Broadway, Schenectady, 11001007

Schoharie County

Lehman, John, House, 407 Kilts Rd., Sharon Springs, 11001008

Schuyler County

Watkins Glen Commercial Historic District, 108-400 & 201-317 N. Franklin St., 111 W. 4th St. & 215 S. Madison St., Watkins Glen, 11001009

St. Lawrence County

Knollwood, S. end of Inlet Rd. at Oswegatchie R., Star Lake, 11001006

Suffolk County

Rogers Mansion Museum Complex, 17 Meetinghouse Ln., Southampton, 11001010

NORTH CAROLINA

Franklin County

Franklin County Training School—Riverside Union School, 53 W. River Rd., Louisburg, 11001011

SOUTH DAKOTA

Charles Mix County

Marty Mission School Gymnasium and St. Therese Hall (Schools in South Dakota MPS), SW. corner of 303rd St. & 388th Ave., Marty, 11001012

WASHINGTON

Walla Walla County

Electric Light Works Building, 111 N. 6th Ave., Walla Walla, 11001013

Whatcom County

Broadway Park Historic District, Roughly bounded by Illinois, W. North, Summer & Ellis Sts., Bellingham, 11001014

WISCONSIN

Sauk County

Hahn, Otto Sr. and Lisette, House, 626 Water St., Sauk City, 11001015

Request for removal has been made for the following resources:

FLORIDA

Broward County

Dr. Kennedy Homes Historic District, 1010 W. Broward Blvd., Fort Lauderdale, 11000179

Palm Beach County

Bingham-Blossom House, 1250 S. Ocean Blvd., Palm Beach, 72000344

Brelsford House, 1 Lake Trail, Palm Beach, 74000653

Dixie Court Hotel, 301 N. Dixie Hwy., West Palm Beach, 86001723

Hibiscus Apartments, 619 Hibiscus St., West Palm Beach, 84000935

Palm Beach Winter Club, 951 US 2, North Palm Beach, 80000960

TEXAS

Dallas County

Seagoville School, 306 N. Kaufman St., Seagoville, 05000857

[FR Doc. 2011-32211 Filed 12-15-11; 8:45 am]

BILLING CODE 4312-51-P